NUCLEAR REGULATORY COMMISSION

[NRC-2017-0232]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from November 18, 2017, to December 4, 2017. The last biweekly notice was published on December 5, 2017.

DATES: Comments must be filed by January 18, 2018. A request for a hearing must be filed by February 20, 2018.

ADDRESSES: You may submit comments by any of the following methods (unless this document describes a different method for submitting comments on a specific subject):

• Federal Rulemaking website: Go to http://www.regulations.gov and search for Docket ID NRC-2017-0232. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384, email: Janet.Burkhardt@nrc.gov.

SUPPLEMENTARY INFORMATION:

I. Obtaining Information and Submitting Comments

A. Obtaining Information

Please refer to Docket ID NRC-2017-0232, facility name, unit number(s), plant docket number, application date, and subject when contacting the NRC about the availability of information for this action. You may obtain publicly-available information related to this action by any of the following methods:

• Federal Rulemaking website: Go to http://www.regulations.gov and search for Docket ID NRC-2017-0232.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0232, facility name, unit number(s), plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-369 and 50-370, McGuire Nuclear Station, Units 1 and 2 (McGuire), Mecklenburg County, North Carolina

Date of amendment request: September 14, 2017. A publicly-available version is in ADAMS under Accession No. ML17262A090.

Description of amendment request: The amendments would modify Technical Specifications (TSs) to allow temporary changes to TSs 3.5.2, “ECCS [Emergency Core Cooling System]—Operating,” 3.6.6, “Containment Spray System” (CSS), 3.7.5, “Auxiliary Feedwater (AFW) System,” 3.7.6, “Component Cooling Water (CCW) System,” 3.7.7, “Nuclear Service Water System (NSWS),” 3.7.9, “Control Room Area Ventilation System (CRAVS),” 3.7.11, “Auxiliary Building Filtered Ventilation Exhaust System (ABFVES),” and 3.8.1, “AC [Alternating Current] Sources—Operating,” to permit the “A” Train NSWS to be inoperable for a total of 14 days to address a non-conforming condition on the “A” Train supply piping from the Standby Nuclear Service Water Pond (SNSWP).

Basis for proposed no significant hazards consideration determination: As required by 10 CFR 50.91(a), the licensee has provided its analysis of the issue of no significant hazards consideration, which is presented below:

1. Does the proposed amendment involve a significant increase in the probability or consequences of an accident previously evaluated?

Response: No.

The `B' Train NSWS and supported equipment will remain fully operable during the 14 day CT [completion time]. The alignment of the `A' Train NSWS will remain consistent with the NSWS normal and ESFAS [engineered safety features actuation system] alignment. Although not fully operable the `A' Train NSWS and its supported equipment will be capable of performing their functions during the 14 day CT.

The `A' NSWS and supported equipment function as accident mitigators. Removing `A' Train SNSWP supply piping from service for a limited period of time does not affect any accident initiator and therefore cannot change the probability of an accident. The proposed changes and the `A' Train NSWS repair evolution have been evaluated to assess their impact on the systems affected and ensure design basis safety functions are preserved.

The risk analysis for the proposed [NSWS] alignment during the 14 day CT shows no delta risk for any ESF [engineered safety feature] actuation event that does not involve an earthquake. The most significant risk contributor is a seismic event with a magnitude great enough to cause the failure of Cowan's Ford dam and subsequent loss of Lake Norman or LLI [low level intake] during the 14 day CT. The estimated Incremental Conditional Core Damage Probability (ICCDP) due to the seismic event is much less than the limits associated with Regulatory Guide 1.177.

In addition, as previously stated, a Seismic Fragility Assessment of the McGuire Low Level Intake Water Pipeline in December of 2011 indicates that the dam and water supply would withstand a SSE [safe shutdown earthquake]. Therefore for the short duration of this proposed alignment the increase in risk is deemed to be negligible.

Risk associated with tornado/high winds was assessed. The months of November through February have been the seasonal low for tornado frequency. This evolution is currently scheduled for the spring February 2018 time frame. The risk contribution from tornado and high wind events is negligible during the proposed NSWS configuration described in this LAR [license amendment request] and therefore, the calculated Core Damage Frequency (CDF) or the Large Early Release [Frequency] (LERF) contribution due to high wind and tornado events is negligible with respect to overall risk. The activities covered by this LAR also include a defense-in-depth action to cease activities and close the personnel access opening in the event of a tornado warning. Weather patterns will be monitored and this activity will be modified if tornado/high wind conditions become imminent.

The overall increase in risk for the 14 day CT is solely due to the seismic event which results in a loss of Lake Norman or LLI. However, this risk is reduced by the defense in depth strategy described in the LAR that provides a contingency for the loss of a `B' Train NSWS pump after the loss of the Lake Norman water supply. This defense in depth contingency effectively offsets the unavailability of the `A' Train NSWS SNSWP supply.

In addition, pre-aligning the `B' Train NSWS to the SNSWP water supply in advance of the proposed activities prevents the introduction of potential equipment failures during an ESFAS demanded transfer. This action also eliminates the time it would take operators to perform the transfer following a seismic event.

The quantified impact of defense in depth measures and compensatory actions on CDF/LERF cannot be precisely determined, yet it is agreed that the implementation of these actions would only serve to improve these risk parameters.

Not included in the overall risk evaluation is the additional margin identified by the Fragility Assessment discussed previously that concluded that the Lake Norman Dam and LLI would survive a SSE.

As stated in NRC Generic Letter 80-30, “Clarification of the Term `Operable' as it Applies to Single Failure Criterion for Safety Systems Required by TS,” there is no requirement to assume a single failure while operating under a Technical Specification (TS) required action. Therefore, there will be no effect on the analysis of any accident or the progression of the accident since the operable [nuclear service water (NSW)] `B' train is capable of serving 100 percent of all the required heat loads. As such, there is no impact on consequence mitigation for any transient or accident.

In light of the above discussion, the proposed change does not involve a significant increase in the probability or consequences of an accident previously evaluated.

2. Does the proposed amendment create the possibility of a new or different kind of accident from any accident previously evaluated?

Response: No.

The proposed amendment is the one time extension of the required CTs from 72 hours for the ECCS, CSS, NSWS, AFW, CCW and the EDG [emergency diesel generator] systems and from 168 hours for the CRAVS and ABFVES systems to 336 hours. The requested change does not involve the addition or removal of any plant system, structure, or component.

The proposed temporary TS changes do not affect the basic design, operation, or function of any of the systems associated with the TS impacted by the amendment. Implementation of the proposed amendment will not create the possibility of a new or different kind of accident from that previously evaluated.

McGuire intends to isolate, inspect, and repair the `A' Train NSWS supply from the SNSWP. This activity will require that `A' Train NSW be aligned to Lake Norman until the system is ready for post maintenance testing. This action maintains the NSW `A' Train's normal and automatic alignment to Lake Norman but will result in the inability to manually align the `A' Train NSWS to the SNSWP subsequent to a seismic event that results in damage to the supply piping from Lake Norman or the highly improbable loss of Lake Norman.

Although considered inoperable, the `A' Train NSWS and supported systems will be technically capable of performing their intended functions. Throughout the repair project, compensatory measures will be in place to provide additional assurance that the affected systems will continue to be capable of performing their intended safety functions.

No new accident causal mechanisms are created as a result of the requested changes creating the possibility of a new or different kind of accident from any accident previously evaluated.

In conclusion, this proposed LAR does not impact any plant systems that are accident initiators and does not impact any safety analysis.

Therefore, the proposed changes do not create the possibility of a new or different kind of accident from any accident previously evaluated.

3. Does the proposed amendment involve a significant reduction in the margin of safety?

Response: No.

Margin of safety is related to the confidence in the ability of the fission product barriers to perform their design functions during and following an accident situation. These barriers include the fuel cladding, the reactor coolant system, and the containment system. The performance of the fuel cladding, reactor coolant and containment systems will not be impacted by the proposed LAR.

Additionally, the proposed amendment does not involve a change in the design or operation of the plant. The activity only extends the amount of time the `A' NSW system is allowed to be inoperable to correct the non-conforming condition on the `A' NSWS supply piping from the SNSWP. As stated previously, the `A' Train NSWS and supported equipment will remain in its Normal and ESFAS alignment during the extended CT and be functionally capable for all postulated events except a seismic event that results in loss of the Lake Norman water supply.

Defense-in-depth measures involving use of the Main Supply Crossover piping to supply suction to affected unit's `A' Train NSWS pump from the `B' train SNSWP suction piping and the ability to implement the FLEX strategy on both units provide additional safety margin for this event. Use of the Main Supply Crossover line is only needed in the unlikely event that one unit's `B' Train NSWS pump fails after loss of `A' Train NSWS due to an earthquake.

The estimated ICCDP during the 14 day CT extension is much less than the limits associated with Regulatory Guide 1.177.

Therefore, it is concluded that the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Kate B. Nolan, Deputy General Counsel, Duke Energy Carolinas, LLC, 550 South Tryon Street—DEC45A Charlotte, NC 28202-1802.

NRC Branch Chief: Michael T. Markley.

Exelon Generation Company, LLC, Docket No. 50-461, Clinton Power Station, Unit No. 1, DeWitt County, Illinois

Exelon Generation Company, LLC, Docket Nos. 50-373 and 50-374, LaSalle County Station, Units 1 and 2, LaSalle County, Illinois

Exelon Generation Company, LLC, Docket Nos. 50-352 and 50-353, Limerick Generating Station, Units 1 and 2, Montgomery County, Pennsylvania

Exelon Generation Company, LLC, Docket No. 50-410, Nine Mile Point Nuclear Station, Unit 2, Oswego County, New York

Date of amendment request: November 8, 2017. A publicly-available version is in ADAMS under Accession No. ML17312A364.

Description of amendment request: The amendments would revise the technical specifications requirements for secondary containment. The proposed changes are based in part on Technical Specifications Task Force (TSTF) Traveler TSTF-551, “Revise Secondary Containment Surveillance Requirements [SRs],” Revision 3 (ADAMS Accession No. ML16277A226).

The application also included similar requests for Dresden Nuclear Power Station, Units 2 and 3, and Quad Cities Nuclear Power Station, Units 1 and 2. However, these requests are being reviewed separately and are not within the scope of this notice.

Basis for proposed no significant hazards consideration determination: As required by 10 CFR 50.91(a), the licensee has provided its analysis of the issue of no significant hazards consideration, which is presented below:

1. Does the proposed amendment involve a significant increase in the probability or consequences of an accident previously evaluated?

Response: No.

The proposed change addresses conditions during which the secondary containment SRs are not met. The secondary containment is not an initiator of any accident previously evaluated. As a result, the probability of any accident previously evaluated is not increased. The consequences of an accident previously evaluated while utilizing the proposed changes are no different than the consequences of an accident while utilizing the existing four-hour Completion Time (i.e., allowed outage time) for an inoperable secondary containment. In addition, the proposed change provides an alternative means to ensure the secondary containment safety function is met. As a result, the consequences of an accident previously evaluated are not significantly increased.

Therefore, the proposed change does not involve a significant increase in the probability or consequences of an accident previously evaluated.

2. Does the proposed amendment create the possibility of a new or different kind of accident from any accident previously evaluated?

Response: No.

The proposed change does not alter the protection system design, create new failure modes, or change any modes of operation. The proposed change does not involve a physical alteration of the plant; and no new or different kind of equipment will be installed. Consequently, there are no new initiators that could result in a new or different kind of accident.

Therefore, the proposed change does not create the possibility of a new or different kind of accident from any previously evaluated.

3. Does the proposed amendment involve a significant reduction in a margin of safety?

Response: No.

The proposed change addresses conditions during which the secondary containment SRs are not met. Conditions in which the secondary containment vacuum is less than the required vacuum are acceptable provided the conditions do not affect the ability of the SGT [standby gas treatment] System to establish the required secondary containment vacuum under post-accident conditions within the time assumed in the accident analysis. This condition is incorporated in the proposed change by requiring an analysis of actual environmental and secondary containment pressure conditions to confirm the capability of the SGT System is maintained within the assumptions of the accident analysis.

Therefore, the safety function of the secondary containment is not affected.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Exelon Generation Company, LLC, Docket No. 50-410, Nine Mile Point Nuclear Station, Unit 2, Oswego County, New York

Date of amendment request: August 22, 2017. A publicly-available version is in ADAMS under Accession No. ML17234A025.

Description of amendment request: The amendment would remove the note associated with Technical Specification Surveillance Requirement Section 3.5.1.2. The note allows the low pressure coolant injection subsystems to be considered operable in MODE 3 under certain conditions.

Basis for proposed no significant hazards consideration determination: As required by 10 CFR 50.91(a), the licensee has provided its analysis of the issue of no significant hazards consideration, which is presented below:

1. Does the proposed amendment involve a significant increase in the probability or consequences of an accident previously evaluated?

Response: No.

No physical changes to the facility will occur as a result of this proposed amendment. The proposed change will not alter the physical design. The current Note in Technical Specification (TS) Surveillance Requirement (SR) 3.5.1.2 could make Low Pressure Coolant Injection (LPCI) susceptible to potential water hammer in the Residual Heat Removal (RHR) system if in the Shutdown Cooling (SDC) Mode of RHR in Mode 3 when swapping from the SDC to LPCI mode of RHR.

The proposed change will remove the TS Note and eliminate the risk for pump cavitation, water hammer through voiding in the suction piping, and potential damage to the RHR system.

Therefore, the proposed change does not involve a significant increase in the probability or consequences of an accident previously evaluated.

2. Does the proposed amendment create the possibility of a new or different kind of accident from any accident previously evaluated?

Response: No.

The proposed change does not alter the physical design, safety limits, or safety analysis assumptions associated with the operation of the plant. Accordingly, the change does not introduce any new accident initiators, nor does it reduce or adversely affect the capabilities of any plant structure, system, or component to perform their safety function. Deletion of the TS Note is appropriate because current TSs could put the plant at risk for potential pump cavitation and voiding in the suction piping, resulting in water hammer and potential damage to the RHR system.

Therefore, the proposed change does not create the possibility of a new or different kind of accident from any previously evaluated.

3. Does the proposed amendment involve a significant reduction in a margin of safety?

Response: No.

The proposed change conforms to NRC regulatory guidance regarding the content of plant Technical Specifications. The proposed change does not alter the physical design, safety limits, or safety analysis assumptions associated with the operation of the plant.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Northern States Power Company—Minnesota, Docket No. 50-263, Monticello Nuclear Generating Plant, Wright County, Minnesota

Date of amendment request: October 20, 2017. A publicly-available version is in ADAMS under Accession No. ML17293A280.

Description of amendment request: The proposed amendment would adopt Technical Specifications Task Force (TSTF) Traveler TSTF-542, “Reactor Pressure Vessel Water Inventory Control.” The proposed amendment would replace existing technical specification (TS) requirements related to operations with a potential for draining the reactor vessel with new requirements on Reactor Pressure Vessel (RPV) Water Inventory Control (WIC) to protect Safety Limit 2.1.1.4. Safety Limit 2.1.1.4 requires the reactor vessel water level to be greater than the top of active irradiated fuel.

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs [operation with a potential for draining the reactor vessels] with new requirements on RPV WIC that will protect Safety Limit 2.1.1.4. Draining of Reactor Pressure Vessel (RPV) water inventory in Mode 4 (cold shutdown) and Mode 5 (refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be operable at all times in Modes 4 and 5. The current TS requirements do not require any water injection systems, ECCS or otherwise, to be operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that containment and/or filtration would be available if needed.

The proposed change reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed change does not involve a significant increase in the probability or consequences of an accident previously evaluated.

2. Does the proposed amendment create the possibility of a new or different kind of accident from any previously evaluated?

Response: No.

The proposed change replaces existing TS requirements related to OPDRVs with new requirements on RPV WIC that will protect Safety Limit 2.1.1.4. The proposed change will not alter the design function of the equipment involved. Under the proposed change, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.4. New requirements are added to determine the limiting time in which the RPV water inventory could drain to the TAF in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: David J. Wrona.

Southern Nuclear Operating Company, Docket Nos. 52-025 and 52-026, Vogtle Electric Generating Plant, Units 3 and 4, Burke County, Georgia

Date of amendment request: September 25, 2017. A publicly-available version is in ADAMS under Accession No. ML17268A188.

Description of amendment request: The amendment request proposes changes to combined license (COL) Appendix A, Technical Specifications (TS) and plant-specific Design Control Document (DCD) Tier 2 information and departures from plant-specific Tier 1 information (and associated COL Appendix C information). Pursuant to the provisions of 10 CFR 52.63(b)(1), an exemption from elements of the design as certified in the 10 CFR part 52, appendix D, design certification rule is also requested for the plant-specific DCD Tier 1 material departures.

Specifically, the requested amendment proposes changes to TS to allow Reactor Coolant System vacuum fill operations in cold shutdown (i.e., MODE 5) conditions, and conforming consistency changes to plant-specific DCD information in the form of departures from DCD Tier 2 information, as incorporated into the Updated Final Safety Analysis Report (UFSAR). Other proposed TS changes address corrections to TS Actions and Applicability for consistency within the TS.

Additionally, the requested amendment proposes to depart from plant-specific AP1000 DCD Tier 2 information, as incorporated into the UFSAR, and also involves departure from Tier 1 Design Descriptions and Inspections, Tests, Analyses, and Acceptance Criteria related to inspecting the volume in the containment that allows for floodup to support long-term core cooling for postulated loss-of-coolant accidents.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not adversely affect the operation of any systems or equipment that initiate an analyzed accident or alter any structures, systems, and components (SSCs) accident initiator or initiating sequence of events.

The proposed changes do not affect the physical design and operation of the CMTs [Core Makeup Tanks], ADS [Automatic Depressurization System] valves, or ESFAS [Engineered Safety Features Actuation System] as described in the UFSAR. Inadvertent operation or failure of the ADS valves are considered as accident initiators or part of an initiating sequence of events for an accident previously evaluated. However, the proposed changes do not adversely affect the probability of inadvertent operation or failure. Therefore, the probabilities of the accidents previously evaluated in the UFSAR are not affected.

The proposed changes do not affect the ability of the CMTs, ADS valves, or ESFAS to perform their design functions. The designs of the CMTs, ADS valves, and ESFAS continue to meet the same regulatory acceptance criteria, codes, and standards as required by the UFSAR. In addition, the proposed changes maintain the capabilities of the CMTs, ADS valves, and ESFAS to mitigate the consequences of an accident and to meet the applicable regulatory acceptance criteria.

The proposed changes do not affect the prevention and mitigation of other abnormal events (e.g., anticipated operational occurrences, earthquakes, floods and turbine missiles), or their safety or design analyses. Therefore, the consequences of the accidents evaluated in the UFSAR are not affected.

Therefore, the proposed amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created.

The proposed changes do not affect any other SSC design functions or methods of operation in a manner that results in a new failure mode, malfunction, or sequence of events that affect safety-related or nonsafety related equipment. Therefore, this activity does not allow for a new fission product release path, result in a new fission product barrier failure mode, or create a new sequence of events that result in significant fuel cladding failures.

Therefore, the proposed amendment does not create the possibility of a new or different kind of accident from any accident previously evaluated.

3. Does the proposed amendment involve a significant reduction in a margin of safety?

Response: No.

The proposed changes maintain existing safety margins. The proposed changes verify and maintain the capabilities of the CMTs, ADS valves, or ESFAS to perform their design functions. Therefore, the proposed changes satisfy the same design functions in accordance with the same codes and standards as stated in the UFSAR. These changes do not affect any design code, function, design analysis, safety analysis input or result, or design/safety margin. No safety analysis or design basis acceptance limit/criterion is challenged or exceeded by the proposed changes, and no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: November 3, 2017. A publicly-available version is in ADAMS under Accession No. ML17307A201.

Description of amendment request: The requested amendment proposes to depart from Tier 2 information in the Updated Final Safety Analysis Report (which includes the plant-specific design control document (DCD) Tier 2 information) and involves related changes to plant-specific Tier 1 information, with corresponding changes to the associated combined license (COL) Appendix C information.

The proposed changes would revise the licensing basis description of an administrative program to manage a limited quantity of unqualified inorganic zinc coatings in Service Level I areas of the containment. The requested amendment also involves related changes to plant-specific Tier 1 Table 2.2.3-4, inspections, tests, analyses, and acceptance criteria information, with corresponding changes to the associated COL Appendix C information.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not affect the operation or reliability of any system, structure or component (SSC) required to maintain a normal power operating condition or to mitigate anticipated transients without safety-related systems. The existence or failure of an unqualified coating in a Service Level I area could not initiate an accident previously evaluated. Safe shutdown using nonsafety-related systems is achieved without significant containment steaming, and does not rely on containment heat transfer or containment recirculation. The proposed changes do not affect the operation of equipment whose failure could initiate an accident previously analyzed. The existence or failure of unqualified coatings in Service Level I areas does not affect normal equipment operation. Therefore, the proposed amendment does not involve a significant increase in the probability of an accident previously evaluated.

The proposed changes do not adversely affect the reliability or function of an SSC relied upon to mitigate an accident previously analyzed. A coating nonconformance that could adversely affect the reliability or function of the containment vessel would not be accepted under the quality assurance (QA) program arrangements. The existence of unqualified coatings in Service Level I areas will not adversely affect the heat transfer through the containment vessel. The existence or failure of unqualified coatings in Service Level I areas will not adversely affect passive core cooling system (PXS) performance during containment recirculation because the total allowable amount of unqualified coating is restricted to within analyzed limits. Therefore, the requested amendment does not involve a significant increase in the consequences of an accident previously evaluated.

Therefore, the proposed amendment does not involve a significant increase in the probability or consequences of an accident previously evaluated.

2. Does the proposed amendment create the possibility of a new or different kind of accident from any accident previously evaluated?

Response: No.

The proposed changes do not affect the operation of systems or equipment that could initiate a new or different kind of accident, or alter any SSC such that a new accident initiator or initiating sequence of events is created. Under the existing quality assurance arrangements (procedures, policies, processes, etc.), nonconformances that adversely affect reliability or function of a safety-related SSC would not be accepted. The proposed changes do not affect the physical design and operation of the containment vessel or the PXS. The existence or failure of an unqualified coating in a Service Level I area as controlled by the quality assurance program nonconformance disposition process for managing unqualified coatings could not create new failure modes, new malfunctions, or change a sequence of events such that a new or different kind of accident is created.

Therefore, the proposed amendment does not create the possibility of a new or different kind of accident from any accident previously evaluated.

3. Does the proposed amendment involve a significant reduction in a margin of safety?

Response: No.

The proposed changes do not affect existing safety margins. The heat transfer capabilities and structural integrity of the containment vessel are maintained with the proposed changes. The safety injection and containment recirculation functions of the PXS and containment vessel are maintained with the proposed changes. Management of coatings continues to comply with recommended industry standards and with NRC Regulatory Guide 1.54. The existence of unqualified coatings in Service Level I areas will not require revision to any safety analysis or safety margin. Because the quantity of unqualified coatings will be restricted to within analyzed limits, no safety analysis or design basis acceptance criterion is challenged or exceeded due to the proposed changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

DTE Electric Company, Docket No. 50-341, Fermi 2, Monroe County, Michigan

Date of amendment request: July 25, 2016, as supplemented by letter dated August 15, 2017.

Brief description of amendment: The amendment eliminated the Technical Specification (TS) Section 5.5.6, “Inservice Testing and Inspection Program,” to remove requirements duplicated in American Society of Mechanical Engineers (ASME) Code for Operations and Maintenance of Nuclear Power Plants and ASME Boiler and Pressure Vessel Code, Section XI. The amendment also added a new defined term, “INSERVICE TESTING PROGRAM,” to TS Section 1.1, “Definitions.” The elimination of TS 5.5.6 and the addition of the new defined term “INSERVICE TESTING PROGRAM” is consistent with TSTF-545, Revision 3, “TS Inservice Testing Program Removal & Clarify SR Usage Rule Application to Section 5.5 Testing.” In addition, the amendment modified TS 5.5.4, “Radioactive Effluent Control Program,” to clarify that Surveillance Requirements 3.0.2 and 3.0.3 are applicable to the requirement for that program contained in Offsite Dose Calculation Manual.

Date of issuance: November 29, 2017.

Effective date: As of the date of issuance and shall be implemented within 120 days of issuance.

Amendment No.: 207. A publicly-available version is in ADAMS under Accession No. ML17128A316; documents related to this amendment are listed in the Safety Evaluation enclosed with the amendment.

Renewed Facility Operating License No. NPF-43: This amendment revised the renewed facility operating license and TSs.

Date of initial notice in Federal Register: November 22, 2016 (81 FR 83874). The supplemental letter dated August 15, 2017, provided additional information that clarified the application, did not expand the scope of the application as originally noticed, and did not change the staff's original proposed no significant hazards consideration determination as published in the Federal Register.

The Commission's related evaluation of the amendment is contained in a Safety Evaluation dated November 29, 2017.

No significant hazards consideration comments received: No.

Duke Energy Carolinas, LLC, Docket Nos. 50-269, 50-270, and 50-287, Oconee Nuclear Station, Units 1, 2, and 3, Oconee County, South Carolina

Date of amendment request: February 26, 2016, as supplemented by letters dated January 30, June 1, and October 13, 2017.

Brief description of amendments: The amendments revised Technical Specification 3.8.1, “AC [Alternating Current] Sources—Operating,” to allow sufficient time to replace the stator of each Keowee Hydro Unit.

Date of issuance: November 20, 2017.

Effective date: As of the date of issuance and shall be implemented within 60 days of issuance.

Amendment Nos.: 406 (Unit 1), 408 (Unit 2), and 407 (Unit 3). A publicly-available version is in ADAMS under Accession No. ML17124A608; documents related to these amendments are listed in the Safety Evaluation enclosed with the amendments.

Renewed Facility Operating License Nos. DPR-38, DPR-47, and DPR-55: Amendments revised the Facility Operating Licenses and Technical Specifications.

Date of initial notice in Federal Register: July 5, 2016 (81 FR 43650). The supplemental letters dated January 30, June 1, and October 13, 2017, provided additional information that clarified the application, did not expand the scope of the application as originally noticed, and did not change the staff's original proposed no significant hazards consideration determination as published in the Federal Register.

The Commission's related evaluation of the amendment is contained in a Safety Evaluation dated November 20, 2017.

No significant hazards consideration comments received: No.

Exelon Generation Company, LLC, Docket No. 50-333, James A. FitzPatrick Nuclear Power Plant (FitzPatrick), Oswego County, New York

Date of amendment request: July 24, 2017.

Brief description of amendment: The amendment revised the renewed facility operating license to reflect the transfer of the direct ownership of FitzPatrick and the FitzPatrick Independent Spent Fuel Storage Installation General License from Exelon Generation Company, LLC, to Exelon FitzPatrick, LLC.

Date of issuance: November 30, 2017.

Effective date: As of the date of issuance and shall be implemented within 30 days of issuance.

Amendment No.: 317. A publicly-available version is in ADAMS under Accession No. ML17313A077; documents related to this amendment are listed in the Safety Evaluation enclosed in a letter dated November 7, 2017 (ADAMS Accession No. ML17240A069).

Renewed Facility Operating License No. DPR-59: The amendment revised the renewed facility operating license.

Date of initial notice in Federal Register: August 17, 2017 (82 FR 39139).

The Commission's related evaluation of the amendment is contained in the Safety Evaluation dated November 7, 2017.

Exelon Generation Company, LLC, Docket Nos. 50-254 and 50-265, Quad Cities Nuclear Power Station, Units 1 and 2, Rock Island County, Illinois

Date of amendment request: April 27, 2017, as supplemented by letters dated July 27 and September 28, 2017.

Brief description of amendments: The amendments revised Technical Specification (TS) 5.5.12, “Primary Containment Leakage Rate Testing Program,” to allow for the permanent extension of the Type A integrated leak rate testing and Type C leak rate testing frequencies. The amendments also deleted a Type A test extension that expired in 2009 for Unit 1, and 2008 for Unit 2, from TS 5.5.12.a.

Date of issuance: December 1, 2017.

Effective date: As of the date of issuance and shall be implemented within 30 days.

Amendment Nos.: Unit 1—269; Unit 2—264. A publicly-available version is in ADAMS under Accession No. ML17311A162; documents related to these amendments are listed in the Safety Evaluation enclosed with the amendments.

Renewed Facility Operating License Nos. DPR-29 and DPR-30: Amendments revised the TSs and licenses.

Date of initial notice in Federal Register: June 19, 2017 (82 FR 27888). The supplemental letters dated July 27 and September 28, 2017, provided additional information that clarified the application, did not expand the scope of the application as originally noticed, and did not change the staff's original proposed no significant hazards consideration determination as published in the Federal Register.

The Commission's related evaluation of the amendments is contained in a Safety Evaluation dated December 1, 2017.

No significant hazards consideration comments received: No.

Northern States Power Company—Minnesota, Docket Nos. 50-263, 50-282, and 50-306, Monticello Nuclear Generating Plant (MNGP), and Prairie Island Nuclear Generating Plant (PINGP), Units 1 and 2, Wright County and Goodhue County, Minnesota

Date of amendment request: March 31, 2017.

Brief description of amendments: The amendments revised the PINGP, Units 1 and 2, Technical Specification (TS) Section 5.3, “Plant Staff Qualifications,” and MNGP, TS 5.3, “Unit Staff Qualifications,” subsections 5.3.1 to add an exception for licensed operators from the education and experience eligibility requirements of American National Standards Institute (ANSI) N18.1-1971, “Selection and Training of Nuclear Power Plant Personnel,” by requiring that licensed operators comply only with the requirements of 10 CFR 55, “Operators' Licenses.” The amendment also revised the PINGP, Units 1 and 2, and MNGP TS 5.0, “Administrative Controls,” subsections 5.1-5.3 by making changes to standardize and align formatting to the extent possible between the TSs.

Date of issuance: November 28, 2017.

Effective date: As of the date of issuance and shall be implemented within 90 days of issuance.

Amendment Nos.: 195—MNGP; 221—PINGP Unit 1; and 208—PINGP Unit 2. A publicly-available version is in ADAMS under Accession No. ML17310B239; documents related to these amendments are listed in the Safety Evaluation enclosed with the amendments.

Renewed Facility Operating License Nos. DPR-22, DPR-42, and DPR-60: The amendments revised the renewed facility operating licenses and TSs.

Date of initial notice in Federal Register: June 6, 2017 (82 FR 26133).

The Commission's related evaluation of the amendment is contained in a Safety Evaluation dated November 28, 2017.

No significant hazards consideration comments received: No.

Northern States Power Company—Minnesota, Docket Nos. 50-282 and 50-306, Prairie Island Nuclear Generating Plant, Units 1 and 2, Goodhue County, Minnesota

Date of amendment request: November 17, 2015, as supplemented by letters dated May 23, 2016, February 16, 2017, and October 4, 2017.

Brief description of amendments: The amendments revised the Technical Specification (TS) 3.7.16, “Spent Fuel Storage Pool Boron Concentration,” and TS 4.3.1, “Fuel Storage Criticality,” to allow spent fuel pool storage of fresh and spent nuclear fuel containing a boron-based neutron absorber in the form of zirconium diboride integral fuel burnable absorber.

Date of issuance: November 30, 2017.

Effective date: As of the date of issuance and shall be implemented within 120 days of issuance.

Amendment Nos.: 222—Unit 1; 209—Unit 2. A publicly-available version is in ADAMS under Accession No. ML17334A178; documents related to these amendments are listed in the Safety Evaluation enclosed with the amendments.

Renewed Facility Operating License Nos. DPR-42 and DPR-60: The amendments revised the renewed facility operating licenses and TSs.

Date of initial notice in Federal Register: April 5, 2016 (81 FR 19648). The supplemental letters dated May 23, 2016, February 16, 2017, and October 4, 2017, provided additional information that clarified the application, did not expand the scope of the application as originally noticed, and did not change the staff's original proposed no significant hazards consideration determination as published in the Federal Register.

The Commission's related evaluation of the amendment is contained in a Safety Evaluation dated November 30, 2017.

No significant hazards consideration comments received: No.

Omaha Public Power District, Docket No. 50-285, Fort Calhoun Station, Unit 1 (FCS), Washington County, Nebraska

Date of amendment request: March 24, 2017.

Brief description of amendment: The amendment revised the renewed facility operating license Paragraph 3.C, “Security and Safeguards Contingency Plans.” The amendment revised the FCS Cyber Security Plan implementation schedule for the Milestone 8 full implementation date from December 31, 2017, to December 28, 2018.

Date of issuance: November 22, 2017.

Effective date: As of the date of issuance and shall be implemented by December 31, 2017.

Amendment No.: 294. A publicly-available version is in ADAMS under Accession No. ML17289A060; documents related to this amendment are listed in the Safety Evaluation enclosed with the amendment.

Renewed Facility Operating License No. DPR-40: The amendment revised the renewed facility operating license.

Date of initial notice in Federal Register: June 6, 2017 (82 FR 26134).

The Commission's related evaluation of the amendment is contained in a Safety Evaluation dated November 22, 2017.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: July 1, 2016, as supplemented by letters dated August 24, 2016; February 10, June 1, and July 12, 2017.

Brief description of amendments: The amendments revised the requirements of Technical Specification 5.5.12, “Primary Containment Leakage Rate Testing Program,” for Hatch Nuclear Plant, Unit Nos. 1 and 2. Specifically, the amendments allowed an increase in the existing testing intervals for the Type A integrated leakage rate test program, and for the Type C containment isolation valve leakage testing of selected components.

Date of issuance: November 30, 2017.

Effective date: As of the date of issuance and shall be implemented within 6 months of issuance.

Amendment Nos.: Unit 1-288; Unit 2-233. A publicly-available version is in ADAMS under Accession No. ML17271A307; documents related to these amendments are listed in the Safety Evaluation enclosed with the amendments.

Renewed Facility Operating License Nos. DPR-57 and NPF-5: Amendments revised the renewed facility operating licenses and Technical Specifications.

Date of initial notice in Federal Register: September 13, 2016 (81 FR 62930). The supplemental letters dated August 24, 2016; and February 10, June 1, and July 12, 2017, provided additional information that clarified the application, did not expand the scope of the application as originally noticed, and did not change the staff's original proposed no significant hazards consideration determination as published in the Federal Register.

The Commission's related evaluation of the amendments is contained in a Safety Evaluation dated November 30, 2017.

No significant hazards consideration comments received: No.

Southern Nuclear Operating Company, Docket Nos. 52-025 and 52-026, Vogtle Electric Generating Plant (VEGP), Units 3 and 4, Burke County, Georgia

Date of amendment request: August 31, 2016.

Description of amendments: The amendments authorized changes to the VEGP, Units 3 and 4, Updated Final Safety Analysis Report to eliminate pressurizer spray line monitoring during pressurizer surge line testing for the first plant testing only. In addition, these changes correct inconsistencies in testing purpose, testing duration, and the ability to leave equipment in place following the data collection period.

Date of issuance: August 22, 2017.

Effective date: As of the date of issuance and shall be implemented within 30 days of issuance.

Amendment Nos.: 83 (Unit 3) and 82 (Unit 4). A publicly-available version is in ADAMS under Accession No. ML17159A485; documents related to these amendments are listed in the Safety Evaluation enclosed with the amendments.

Facility Combined Licenses Nos. NPF-91 and NPF-92: Amendments revised the Facility Combined Licenses.

Date of initial notice in Federal Register: February 14, 2017 (82 FR 10590).

The Commission's related evaluation of the amendments is contained in the Safety Evaluation dated August 22, 2017.

No significant hazards consideration comments received: No.

Southern Nuclear Operating Company, Docket Nos. 52-025 and 52-026, Vogtle Electric Generating Plant (VEGP), Units 3 and 4, Burke County, Georgia

Date of amendment request: January 31, 2017.

Description of amendments: The amendments authorized changes to the VEGP, Units 3 and 4, Updated Final Safety Analysis Report (UFSAR) in the form of departures from the incorporated plant-specific Design Control Document Tier 2 information and involves changes to the Facility Combined License Appendix A to modify engineered safety features logic for containment vacuum relief actuation.

Date of issuance: October 12, 2017.

Effective date: As of the date of issuance and shall be implemented within 30 days of issuance.

Amendment Nos.: 90 (Unit 3) and 89 (Unit 4). A publicly-available version is in ADAMS under Accession No. ML17241A101; documents related to these amendments are listed in the Safety Evaluation enclosed with the amendments.

Facility Combined Licenses Nos. NPF-91 and NPF-92: Amendments revised the Facility Combined Licenses.

Date of initial notice in Federal Register: March 28, 2017 (82 FR 15386).

The Commission's related evaluation of the amendments is contained in the Safety Evaluation dated October 12, 2017.

No significant hazards consideration comments received: No.

IV. Notice of Issuance of Amendments to Facility Operating Licenses and Combined Licenses and Final Determination of No Significant Hazards Consideration and Opportunity for a Hearing (Exigent Public Announcement or Emergency Circumstances)

During the period since publication of the last biweekly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave To Intervene

The Commission is also offering an opportunity for a hearing with respect to the issuance of the amendment. Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

Duke Energy Progress, LLC, Docket Nos. 50-325 and 50-324, Brunswick Steam Electric Plant, Units 1 and 2, Brunswick County, North Carolina

Date of amendment request: November 22, 2017, as supplemented by letter dated November 24, 2017.

Description of amendments: The licensee requested a one-time, deterministic emergency license amendment to revise the Technical Specifications (TSs) for an extension of the emergency diesel generator (EDG) No. 4 completion time (CT) from 14 days to 30 days. A commensurate change would extend the maximum CT of Required Action D.5 associated with discovery of failure to meet Limiting Condition for Operation (LCO) 3.8.1.a or b (i.e., from 17 days to 33 days). In addition, the licensee has requested to suspend monthly testing of EDGs 1, 2, and 3 per Surveillance Requirement (SR) 3.8.1.2, SR 3.8.1.3, and SR 3.8.1.6 during the proposed extended CTs, if applicable. The license removed EDG No. 4 from service for a planned maintenance to repair a suspected bearing degradation on November 13, 2017. On November 19, 2017, the licensee identified that an increase in the original work scope would extend the EDG 4 maintenance outage beyond the current TS 3.8.1, Required Action D.5, CT of 0745 EST on November 27, 2017, at which time TS 3.8.1, Condition H would be entered requiring both units to be in Mode 3 (hot stand by) within 12 hours. Therefore, the emergency situation could not have been avoided.

Date of issuance: November 26, 2017.

Effective date: November 27, 2017, at 7:45 a.m. Eastern Standard Time.

Amendment Nos.: 282 (Unit 1) and 310 (Unit 2). A publicly-available version is in ADAMS under Accession No. ML17328B072; documents related to these amendments are listed in the Safety Evaluation enclosed with the amendments.

Renewed Facility Operating License Nos. DPR-71 and DPR-62: Amendments revised the TSs and additional conditions of the licenses.

Public comments requested as to proposed no significant hazards consideration (NSHC): No.

The Commission's related evaluation of the amendment, finding of emergency circumstances, state consultation, and final NSHC determination are contained in a Safety Evaluation dated November 26, 2017.

Attorney for licensee: Kathryn B. Nolan, Deputy General Counsel, 550 South Tryon Street, M/C DEC45A, Charlotte, NC 28202.

NRC Branch Chief: Undine Shoop.

Dated at Rockville, Maryland, this 12th day of December, 2017.
For the Nuclear Regulatory Commission.
Greg A. Casto,
Acting Deputy Director, Division of Operating Reactor Licensing, Office of Nuclear Reactor Regulation.

[FR Doc. 2017-27087 Filed 12-18-17; 8:45 am]

BILLING CODE 7590-01-P